ENVIRONMENTAL PROTECTION AGENCY

[EPA-HQ-OPP-2015-0022; FRL-9944-05]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before May 4, 2016.

ADDRESSES: Submit your comments, identified by the docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), email address: BPPDFRNotices@epa.gov., Susan Lewis, Registration Division (RD) (7505P), email address: RDFRNotices@epa.gov. The mailing address for each contact person is: Office of Pesticide Programs, Environmental Protection Agency, 1200 Pennsylvania Ave. NW., Washington, DC 20460-0001. The main telephone number: (703) 305-7090. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

1. EPA Registration Number: 100-RLON. Docket ID number: EPA-HQ-OPP-2016-0049. Applicant: Syngenta Crop Protection LLC, 410 Swing Road, P.O. Box 18300, Greensboro, NC 27419-8300. Active ingredient: Oxathiapiprolin. Product type: Fungicide. Proposed use: Treatment of sunflower seeds. Contact: RD.

2. EPA Registration Number: 352-OEN. Docket ID number: EPA-HQ-OPP-2016-0049. Applicant: E.I. du Pont de Nemours and Company, Inc., Dupont Crop Protection, Stine-Haskell Research Center, P.O. Box 30, Newark, DE 19714-0300. Active ingredient: Oxathiapiprolin. Product type: Fungicide. Proposed use: Treatment of soybean and sunflower seeds. Contact: RD.

3. EPA Registration Number/File Symbol: 6218-IA. Docket ID number: EPA-HQ-OPP-2016-0165. Applicant: Summit Chemical Co., 235 S. Kresson St., Baltimore, MD 21224-2616. Active ingredient: Bacillus thuringiensis ssp. israelensis strain SUM-6218. Product type: Insecticide. Proposed use: To kill mosquito larvae in standing water and control fungus gnats in house and garden plants. Contact. BPPD.

4. EPA Registration Numbers: 59639-97, 59639-99, 59639-119, 59639-127. Docket ID number: EPA-HQ-OPP-2015-0658. Applicant: Valent USA Corporation, 1600 Riviera Avenue, Suite 200. Walnut Creek, CA 94596-8025 Active ingredient: Flumioxazin. Product type: Herbicide. Proposed use: Soybean Forage and Soybean Hay. Contact: RD.

5. EPA Registration Numbers: 59639-107 and 59639-202. Docket ID number: EPA-HQ-OPP-2015-0735. Applicant: Valent U.S.A. Corporation, 1600 Riviera Avenue, Suite 200, Walnut Creek, CA 94596-8025. Active ingredient: Etoxazole. Product type: Insecticide. Proposed Use: Soybean. Contact: RD.

6. EPA Registration Number: 71185-4. Docket ID number: EPA-HQ-OPP-2016-0067. Applicant: Geo Logic Corporation, P.O. Box 3091, Tequesta, FL 33469. Active ingredient: Streptomycin sulfate. Product type: Bactericide/fungicide. Proposed use: Citrus Fruit (Crop Group 10-10). Contact: RD.

7. EPA Registration numbers: 71512-11 and 71512-18. Docket ID Number: EPA-HQ-OPP-2016-0112. Applicant: ISK Biosciences Corporation, 7470 Auburn Road, Suite A, Concord, Ohio 44077. Active Ingredient: Flazasulfuron. Product Type: Herbicide. Proposed use: Olives. Contact: RD.

8. EPA Registration Number: 80990-3, 80990-4. Docket ID number: EPA-HQ-OPP-2016-0067. Applicant: AgroSource, Inc., P.O. Box 3091, Tequesta, FL 33469. Active ingredient: Streptomycin sulfate. Product type: Bactericide/fungicide. Proposed use: Citrus Fruit (Crop Group 10-10). Contact: RD.

Authority: 7 U.S.C. 136 et seq.

Dated: March 25, 2016.
Daniel J. Rosenblatt,
Acting Director, Registration Division, Office of Pesticide Programs.

[FR Doc. 2016-07655 Filed 4-1-16; 8:45 am]

BILLING CODE 6560-50-P